DEPARTMENT OF HOMELAND SECURITY

Coast Guard

33 CFR Part 117

[Docket No. USCG-2007-0078]

RIN 1625-AA09

Drawbridge Operation Regulation; Liberty Bayou, Slidell, LA

AGENCY: Coast Guard, DHS.

ACTION: Final rule.

SUMMARY: The Coast Guard is changing the regulation governing the operation of the State Route 433 (S433) Bridge across Liberty Bayou, mile 2.0, at Slidell, St. Tammany Parish, Louisiana and cancelling the test deviation presently in effect for this bridge. This change is being made in order to reduce the hours of manned operation of the bridge to make more efficient use of personnel and operating resources.

DATES: This rule is effective April 10, 2008. The test deviation, USCG-2007-0081, published on November 15, 2007, under docket number CGD08-07-032, (72 FR 64152) is cancelled as of April 10, 2008.

ADDRESSES: Comments and related materials received from the public, as well as documents indicated in this preamble as being available in the docket, are part of docket USCG-2007-0078, previously published under docket number CGD08-06-010. The docket is available at http://www.regulations.gov. This material is also available for inspection of copying at two locations: The Docket Management Facility (M-30), U.S. Department of Transportation, West Building Ground Floor, Room W12-140, 1200 New Jersey Avenue, SE., Washington, DC 20590, between 9 a.m. and 5 p.m., Monday through Friday, except Federal holidays and the office of the Commander, Eighth Coast Guard District, Bridge Administration Branch, 500 Poydras Street, Room 1313, New Orleans, LA 70130-3310 between 7 a.m. and 3 p.m., Monday through Friday, except Federal holidays.

FOR FURTHER INFORMATION CONTACT: Phil Johnson, Bridge Administration Branch, telephone (504) 671-2128. If you have questions on viewing or submitting material to the docket, call Renee V. Wright, Program Manager, Docket Operations, telephone (202) 366-9826.

SUPPLEMENTARY INFORMATION:

Regulatory Information

On November 15, 2007, we published a supplemental notice of proposed rulemaking (SNPRM) entitled “Drawbridge Operation Regulations; Liberty Bayou, Slidell, LA” in the Federal Register, (72 FR 64177), USCG-2007-0078, previously published under docket number CGD08-06-010. No public meeting was requested, and none was held.

Concurrent with the publication of the SNPRM, a Test Deviation, USCG-2007-0081, old docket number CGD08-07-032, was published on November 15, 2007 entitled, “Drawbridge Operation Regulations; Liberty Bayou, Slidell, LA” in the Federal Register, (72 FR 64152) to allow the Louisiana Department of Transportation and Development to test the proposed schedule and to obtain data and public comments. The Coast Guard received no public comments from this SNPRM or the above referenced Test Deviation. This deviation is being cancelled upon this final rule going into effect because there have been no comments or complaints, and the new operating schedule will be permanent upon cancellation. This deviation from the operating regulations was authorized under 33 CFR 117.35.

Background and Purpose

On May 4, 2006, The Coast Guard published a Notice of Proposed Rulemaking in the Federal Register (86 FR 26290), under docket number CGD08-06-010. The proposed rule would have changed the notice required for an opening from 12 hours to 4 hours. The Coast Guard did not receive any comments as a result of the Notice of Proposed Rulemaking, but a final rule was not published. Subsequently, the bridge owner requested that the operating regulation for the bridge again be revised so that the bridge will open on signal, except that from 7 p.m. to 7 a.m., the bridge will open on signal if at least 2 hours notice is given.

The Louisiana Department of Transportation and Development has requested that the operating regulation of the S433 pontoon span bridge be changed in order to make more efficient use of operating resources. Currently, the draw of the S433 Bridge opens on signal except that from 9 p.m. to 5 a.m. the draw will open on signal if at least 12 hours notice is given, as required by 33 CFR 117.469.

Traffic counts indicate that an average of 6000 vehicles cross the bridge daily and approximately 1025, or 17.1% of those, cross between the hours of 7 p.m. and 7 a.m. Bridge tender logs for a three-month period show that the bridge opened 540 times, or an average of 6 times per day, to pass vessels. Of those vessel openings during the three-month period, 56, or 10.2% of them, were between the hours of 7 p.m. and 7 a.m. Most of the boats requesting openings are recreational fishing vessels, recreational powerboats and sailboats that routinely transit this waterway and are able to give advance notice.

On November 24, 2006 a Coast Guard Bridge Permit was issued approving the construction of a new swing span bridge to be constructed to replace the existing pontoon span bridge. Upon completion of construction, the new bridge will provide a vertical clearance of 7.59 feet above the 2% flow line. While this vertical clearance will accommodate many small recreational boats, larger vessels will still require an opening of the draw for passage. The schedule, placed into effect by this final rule, will be carried over to this new bridge.

Discussion of Comments and Changes

The Coast Guard did not receive any comments or responses to the SNPRM or the test deviation.

Regulatory Evaluation

This rule is not a “significant regulatory action” under section 3(f) of Executive Order 12866, Regulatory Planning and Review, and does not require an assessment of potential costs and benefits under section 6(a)(3) of that Order. The Office of Management and Budget has not reviewed it under that Order.

We expect the economic impact of this rule to be so minimal that a full Regulatory Evaluation is unnecessary. This conclusion is based on the fact that all vessel traffic will still be able to transit through the bridge between 7 p.m. and 7 a.m. after providing the two-hour advance notice for bridge openings.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will not significantly impact any small entities because they are able to give notice prior to transiting through this bridge and most vessel operators that require an opening are currently providing advance notice.

Assistance for Small Entities

Under section 213(a) of the Small Business Regulatory Enforcement Fairness Act of 1996 (Pub. L. 104-121), we offered to assist small entities in understanding the rule so that they could better evaluate its effects on them and participate in the rulemaking process. The Coast Guard provided contact information, so that small entities could ask questions concerning this rule. No small entities contacted the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD which guides the Coast Guard in complying with the National Environmental Policy Act of 1969 (NEPA)(42 U.S.C. 4321-4370f), and have concluded that there are no factors in this case that would limit the use of a categorical exclusion under section 2.B.2 of the Instruction because this rule involves drawbridge regulations. Therefore, this rule is categorically excluded, under figure 2-1, paragraph (32)(e) of the Instruction, from further environmental documentation.

List of Subjects in 33 CFR Part 117

Bridges.

Words of Issuance and Regulatory Text

For the reasons discussed in the preamble, the Coast Guard amends 33 CFR part 117 as follows:

PART 117—DRAWBRIDGE OPERATION REGULATIONS

1. The authority citation for part 117 continues to read as follows:

Authority: 33 U.S.C. 499; 33 CFR 1.05-1; Department of Homeland Security Delegation No. 0170.1.

2. § 117.469 is revised to read as follows:

§ 117.469 Liberty Bayou.

The draw of the S433 Bridge, mile 2.0, at Slidell, shall open on signal, except that between 7 p.m. to 7 a.m., the draw shall open on signal if at least two hours notice is given.

Dated: February 27, 2008.
Joel R. Whitehead,
Rear Admiral, U.S. Coast Guard, Commander, Eighth Coast Guard District.

[FR Doc. E8-4816 Filed 3-10-08; 8:45 am]

BILLING CODE 4910-15-P